DEPARTMENT OF THE INTERIOR

Bureau of Land Management

[LLOROR957000-L62510000-PM000: HAG09-0176]

Filing of Plats of Survey: Oregon/Washington

AGENCY: Bureau of Land Management, Interior.

ACTION: Notice.

SUMMARY: The plats of survey of the following described lands were officially filed in the Bureau of Land Management Oregon/Washington State Office, Portland, Oregon, on February 20, 2009.

Willamette Meridian

Oregon

T. 32 S., R. 8 W., accepted December 18, 2008.

T. 32 S., R. 7 W., accepted December 18, 2008.

T. 8 S., R. 7 W., accepted January 6, 2009.

T. 31 S., R. 3 W., accepted January 8, 2009.

T. 3 S., R. 5 E., accepted January 30, 2009.

T. 11 S., R. 1 E., accepted January 30, 2009.

Washington

T. 30 N., R. 10 E., accepted January 26, 2009.

The plats of survey of the following described lands were officially filed in the Bureau of Land Management Oregon/Washington State Office, Portland, Oregon, on March 20, 2009.

Willamette Meridian

Oregon

T. 4 S., R. 3 E., accepted February 20, 2009.

T. 27 S., R. 12 W., accepted February 27, 2009.

T. 22 S., R. 10 E., accepted March 3, 2009.

T. 30 S., R. 4 W., accepted March 12, 2009.

Washington

T. 27 N., R. 12 W., accepted February 20, 2009.

T. 27 N., R. 13 W., accepted February 20, 2009.

T. 31 N., R. 6 W., accepted March 3, 2009.

The plats of survey of the following described lands were officially filed in the Bureau of Land Management Oregon/Washington State Office, Portland, Oregon, on March 31, 2009.

Willamette Meridian

Oregon

T. 3 S., R. 8 W., accepted March 16, 2009.

T. 21 S., R. 7 W., accepted March 16, 2009.

T. 32 S., R. 5 W., accepted March 16, 2009.

T. 2 S., R. 5 E., accepted March 16, 2009.

T. 6 S., R. 3 E., accepted March 20, 2009.

T. 14 S., R. 7 W., accepted March 20, 2009.

Washington

T. 32 N., R. 31 E., accepted March 20, 2009.

The plats of survey of the following described lands were officially filed in the Bureau of Land Management Oregon/Washington State Office, Portland, Oregon, on April 17, 2009.

Willamette Meridian

Oregon

T. 33 S., R. 5 W., accepted March 20, 2009.

T. 33 S., R. 6 W., accepted March 20, 2009.

T. 34 S., R. 6 W., accepted March 20, 2009.

T. 8 N., R. 10 W., accepted April 3, 2009.

T. 31 S., R. 14 W., accepted April 3, 2009.

ADDRESSES: A copy of the plats may be obtained from the Land Office at the Oregon/Washington State Office, Bureau of Land Management, 333 SW. 1st Avenue, Portland, Oregon 97204, upon required payment. A person or party who wishes to protest against a survey must file a notice that they wish to protest (at the above address) with the Oregon/Washington State Director, Bureau of Land Management, Portland, Oregon.

FOR FURTHER INFORMATION CONTACT: Chief, Branch of Geographic Sciences, Bureau of Land Management, 333 SW. 1st Avenue, Portland, Oregon 97204.

Dated: May 7, 2009.
Pamela J. Chappel,
Acting Chief, Lands Section.

[FR Doc. E9-11266 Filed 5-13-09; 8:45 am]

BILLING CODE 4310-33-P